FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 27, 2002.

A. Federal Reserve Bank of St. Louis (Randall C. Sumner, Vice President) 411 Locust Street, St. Louis, Missouri 63166-2034:

1. David C. Harrison, as co-trustee of the Central Bancompany Voting Trust Agreement; to acquire voting shares of Central Bancompany, Jefferson City, Missouri, and thereby indirectly acquire voting shares of Bank of Jacomo, Blue Springs, Missouri; Boone County National Bank of Columbia, Columbia, Missouri; Central Bank Lake of the Ozarks, Osage Beach, Missouri; Central Trust Bank, Jefferson City, Missouri; City Bank and Trust Company of Moberly, Moberly, Missouri; Empire Bank, Springfield, Missouri; First Central Bank, Warrensburg, Missouri; First National Bank of Audrain County, Mexico, Missouri; First National Bank of Missouri, Lee’s Summit, Missouri; First National Bank of St. Louis, Clayton, Missouri; Jefferson Bank of Missouri, Jefferson City, Missouri; Ozark Mountain Bank, Branson, Missouri; and Third National Bank of Sedalia, Sedalia, Missouri.

Board of Governors of the Federal Reserve System, March 7, 2002.
Robert deV. Frierson,
Deputy Secretary of the Board.

[FR Doc. 02-5956 Filed 3-12-02; 8:45 am]

BILLING CODE 6210-01-S